DEPARTMENT OF ENERGY

Federal Energy Regulatory Commission

Combined Notice of Filings #1

Take notice that the Commission received the following exempt wholesale generator filings:

Docket Numbers: EG21-145-000.

Applicants: Rockhaven Wind, LLC.

Description: Rockhaven Wind Project, LLC submits Exempt Wholesale Generator Notice of Self-Certification.

Filed Date: 5/12/21.

Accession Number: 20210512-5229.

Comments Due: 5 p.m. ET 6/2/21.

Docket Numbers: EG21-146-000.

Applicants: Wheatridge Solar Energy Center, LLC.

Description: Notice of Self-Certification of Exempt Wholesale Generator Status of Wheatridge Solar Energy Center, LLC.

Filed Date: 5/14/21.

Accession Number: 20210514-5177.

Comments Due: 5 p.m. ET 6/4/21.

Take notice that the Commission received the following electric rate filings:

Docket Numbers: ER20-227-003.

Applicants: Jersey Central Power & Light Company, PJM Interconnection, L.L.C.

Description: Compliance filing: JCP&L submits Compliance Filing in ER20-227 to be effective 1/1/2020.

Filed Date: 5/14/21.

Accession Number: 20210514-5126.

Comments Due: 5 p.m. ET 6/4/21.

Docket Numbers: ER21-1280-001.

Applicants: Southern California Edison Company.

Description: Tariff Amendment: SCE's Response to Deficiency Letter—WOD Formula Rate under ER21-1280 to be effective 5/5/2021.

Filed Date: 5/14/21.

Accession Number: 20210514-5002.

Comments Due: 5 p.m. ET 6/4/21.

Docket Numbers: ER21-1475-001.

Applicants: Orange and Rockland Utilities, Inc.

Description: Tariff Amendment: Revised O&R Undergrounding to be effective 4/1/2021.

Filed Date: 5/14/21.

Accession Number: 20210514-5051.

Comments Due: 5 p.m. ET 6/4/21.

Docket Numbers: ER21-1906-000.

Applicants: Pacific Gas and Electric Company.

Description: Tariff Cancellation: Termination of E&P Agreement VP Development (TO SA 2100 EP-25) to be effective 7/14/2021.

Filed Date: 5/14/21.

Accession Number: 20210514-5001.

Comments Due: 5 p.m. ET 6/4/21.

Docket Numbers: ER21-1907-000.

Applicants: Southwest Power Pool, Inc.

Description: § 205(d) Rate Filing: 3023R1 Panama Wind GIA to be effective 5/4/2021.

Filed Date: 5/14/21.

Accession Number: 20210514-5019.

Comments Due: 5 p.m. ET 6/4/21.

Docket Numbers: ER21-1908-000.

Applicants: NSTAR Electric Company.

Description: § 205(d) Rate Filing: Cranberry Power Energy Storage, LLC—Design and Engineering Agreement to be effective. 5/15/2021.

Filed Date: 5/14/21.

Accession Number: 20210514-5041.

Comments Due: 5 p.m. ET 6/4/21.

Docket Numbers: ER21-1909-000.

Applicants: Liberty Utilities (Granite State Electric) Corp.

Description: § 205(d) Rate Filing: Borderline Sales Rate Sheet Update May 2021 to be effective 5/1/2021.

Filed Date: 5/14/21.

Accession Number: 20210514-5078.

Comments Due: 5 p.m. ET 6/4/21.

Docket Numbers: ER21-1911-000.

Applicants: New York Independent System Operator, Inc., New York State Electric & Gas Corporation.

Description: § 205(d) Rate Filing: Joint 205 SGIA among NYISO, NYSEG, Puckett Solar SA2545, CEII to be effective 4/30/2021.

Filed Date: 5/14/21.

Accession Number: 20210514-5119.

Comments Due: 5 p.m. ET 6/4/21.

Docket Numbers: ER21-1912-000.

Applicants: Southwest Power Pool, Inc.

Description: § 205(d) Rate Filing: Revisions to Modify SPP Holidays Definition in Attachment AE to be effective 7/14/2021.

Filed Date: 5/14/21.

Accession Number: 20210514-5140.

Comments Due: 5 p.m. ET 6/4/21.

Docket Numbers: ER21-1913-000.

Applicants: PJM Interconnection, L.L.C., Ohio Power Company, American Electric Power Service Corporation.

Description: § 205(d) Rate Filing: AEP submits SA No. 6071 Guernsey Maintenance Agreement to be effective 4/15/2021.

Filed Date: 5/14/21.

Accession Number: 20210514-5151.

Comments Due: 5 p.m. ET 6/4/21.

Docket Numbers: ER21-1914-000.

Applicants: Vitol Inc.

Description: § 205(d) Rate Filing: Normal filing Change in status to be effective 5/15/2021.

Filed Date: 5/14/21.

Accession Number: 20210514-5167.

Comments Due: 5 p.m. ET 6/4/21.

Docket Numbers: ER21-1915-000.

Applicants: Big Sky Wind, LLC.

Description: § 205(d) Rate Filing: Normal filing Change in status to be effective 5/15/2021.

Filed Date: 5/14/21.

Accession Number: 20210514-5168.

Comments Due: 5 p.m. ET 6/4/21.

Docket Numbers: ER21-1916-000.

Applicants: Assembly Solar III, LLC.

Description: Baseline eTariff Filing: Baseline new to be effective 7/14/2021.

Filed Date: 5/14/21.

Accession Number: 20210514-5173.

Comments Due: 5 p.m. ET 6/4/21.

Docket Numbers: ER21-1917-000.

Applicants: Assembly Solar III, LLC.

Description: § 205(d) Rate Filing: Certificate of Concurrence of Assembly Solar to be effective 7/14/2021.

Filed Date: 5/14/21.

Accession Number: 20210514-5178.

Comments Due: 5 p.m. ET 6/4/21.

Take notice that the Commission received the following electric securities filings:

Docket Numbers: ES21-46-000.

Applicants: Golden Spread Electric Cooperative, Inc.

Description: Application under Section 204 of the Federal Power Act for Continued Authorization to Issue Securities of Golden Spread Electric Cooperative, Inc.

Filed Date: 5/14/21.

Accession Number: 20210514-5129.

Comments Due: 5 p.m. ET 6/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2021.
Debbie-Anne A. Reese,
Deputy Secretary.

[FR Doc. 2021-10663 Filed 5-20-21; 8:45 am]

BILLING CODE 6717-01-P